DEPARTMENT OF ENERGY

Federal Energy Regulatory Commission

Combined Notice of Filings #1

Take notice that the Commission received the following electric rate filings:

Docket Numbers: ER10-2374-001; ER10-1533-002.

Applicants: Puget Sound Energy, Macquarie Energy LLC.

Description: Notice of Non-Material Change in Status of Puget Sound Energy, Inc. et al.

Filed Date: 12/17/12.

Accession Number: 20121217-5247.

Comments Due: 5 p.m. ET 1/7/13.

Docket Numbers: ER12-2207-001.

Applicants: California Independent System Operator Corporation.

Description: 12-12-17 Compliance with November 5 Order re Western Antelope Dry Ranch SGIA to be effective 7/6/2012.

Filed Date: 12/17/12.

Accession Number: 20121217-5200.

Comments Due: 5 p.m. ET 1/7/13.

Docket Numbers: ER12-2209-001.

Applicants: California Independent System Operator Corporation.

Description: 2012-12-17 Compliance with November 5 Order on Western Antelope Blue Sky SGIA to be effective 7/6/2012.

Filed Date: 12/17/12.

Accession Number: 20121217-5203.

Comments Due: 5 p.m. ET 1/7/13.

Docket Numbers: ER12-2227-001; ER10-1952-001; ER10-1971-007.

Applicants: Ensign Wind, LLC.

Description: NextEra Resources Entities' Notification of Non-material Change in Status and Subsidiary Name Change.

Filed Date: 12/17/12.

Accession Number: 20121217-5231.

Comments Due: 5 p.m. ET 1/7/13.

Docket Numbers: ER12-480-003.

Applicants: Midwest Independent Transmission System Operator, Inc.

Description: 12-17-12 Entergy Cost Allocation Compliance to be effective 6/1/2013.

Filed Date: 12/17/12.

Accession Number: 20121217-5199.

Comments Due: 5 p.m. ET 1/7/13.

Docket Numbers: ER13-565-000.

Applicants: Southwest Power Pool, Inc.

Description: 2503 The Central Nebraska Public Power & Irrigation District GIA to be effective 11/26/2012.

Filed Date: 12/17/12.

Accession Number: 20121217-5133.

Comments Due: 5 p.m. ET 1/7/13.

Docket Numbers: ER13-566-000.

Applicants: Southwest Power Pool, Inc.

Description: 2504 The Central Nebraska Public Power & Irrigation District GIA to be effective 11/26/2012.

Filed Date: 12/17/12.

Accession Number: 20121217-5141.

Comments Due: 5 p.m. ET 1/7/13.

Docket Numbers: ER13-567-000.

Applicants: Southwest Power Pool, Inc.

Description: 2505 The Central Nebraska Public Power & Irrigation District GIA to be effective 11/26/2012.

Filed Date: 12/17/12.

Accession Number: 20121217-5145.

Comments Due: 5 p.m. ET 1/7/13.

Docket Numbers: ER13-568-000.

Applicants: PacifiCorp.

Description: PacifiCorp submits tariff filing per 35.13(a)(2)(iii: Idaho RATFA Communications Agreements Concurrence to be effective 2/8/2013.

Filed Date: 12/17/12.

Accession Number: 20121217-5187.

Comments Due: 5 p.m. ET 1/7/13.

Docket Numbers: ER13-569-000.

Applicants: Avista Corporation.

Description: Avista Corp Rate Schedule No. 59 to be effective 12/18/2012.

Filed Date: 12/17/12.

Accession Number: 20121217-5201.

Comments Due: 5 p.m. ET 1/7/13.

Docket Numbers: ER13-570-000.

Applicants: PacifiCorp.

Description: NWE 2nd Amnd and Rstd Interconnection Agmt (AMPS) Concurrence to be effective 12/18/2012.

Filed Date: 12/17/12.

Accession Number: 20121217-5202.

Comments Due: 5 p.m. ET 1/7/13.

Docket Numbers: ER13-572-000.

Applicants: New York State Reliability Council, L.L.C.

Description: New York State Reliability Council, L.L.C.'s Submission of the Revised Installed Capacity Requirement for the New York Control Area under ER13-572.

Filed Date: 12/17/12.

Accession Number: 20121217-5226.

Comments Due: 5 p.m. ET 1/7/13.

Take notice that the Commission received the following public utility holding company filings:

Docket Numbers: PH13-4-000.

Applicants: ArcLight Capital Holdings, LLC.

Description: Notice of Change in Facts of ArcLight Capital Holdings, LLC.

Filed Date: 12/17/12.

Accession Number: 20121217-5248.

Comments Due: 5 p.m. ET 1/7/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2012.
Nathaniel J. Davis, Sr.,
Deputy Secretary.

[FR Doc. 2012-30988 Filed 12-21-12; 4:15 pm]

BILLING CODE 6717-01-P